DEPARTMENT OF AGRICULTURE

Food and Nutrition Service

Agency Information Collection Activities: Proposed Collection; Supplemental Nutrition Assistance Program (SNAP) Mobile Payment Pilots (MPPs)

AGENCY: Food and Nutrition Service (FNS), USDA.

ACTION: Notice.

SUMMARY: In accordance with the Paperwork Reduction Act of 1995, this notice invites the general public and other public agencies to comment on the proposed information collection. This is a revision of an existing information collection to conduct demonstration pilot projects to test the redemption of SNAP benefits through mobile payment technologies.

DATES: Written comments must be received on or before October 22, 2024.

ADDRESSES: Comments may be sent via the following methods:

• Preferred Method: Comments can be submitted through the Federal eRulemaking Portal. Go to http://www.regulations.gov and follow the online instructions for submitting comments electronically.

• Email: Send comments to RPMDHQ-WEB@USDA.GOV.

• Mail: Send comments to Shelly Pierce, Food and Nutrition Service, U.S. Department of Agriculture, 1320 Braddock Place, Alexandria, VA 22314.

All responses to this notice will be summarized and included in the request for Office of Management and Budget (OMB) approval. All comments will be a matter of public record.

FOR FURTHER INFORMATION CONTACT: Requests for additional information or copies of this information collection should be directed to Eden Temple, at (703) 457-7734 or via email to RPMDHQ-WEB@USDA.GOV.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: SNAP Mobile Payment Pilots (MPPs)

Form Number: None.

OMB Number: 0584-0672.

Expiration Date: 6/30/2025.

Type of Request: Revision to existing collection.

Abstract: Section 4006(e) of the Agricultural Act of 2018 (Pub. L. 115-334) authorizes the Food and Nutrition Service (FNS) to allow up to five Mobile Payment Pilots (MPPs) to allow the use of personal mobile devices, such as cellular phones, tablets and smart watches in place of SNAP Electronic Benefit Transfer (EBT) cards to conduct SNAP transactions. Respondents (SNAP State agencies (State agencies) and their SNAP business partners) will conduct pilots to test the use of mobile payment technologies for the redemption of SNAP benefits by SNAP households at participating retailers, to determine their feasibility and implications for program integrity. FNS will conduct these projects to evaluate whether allowing mobile payments is in the best interest of the Program, and to therefore, recommend allowing their use to the Secretary.

The information collected in the pilot evaluation (to be submitted for OMB approval under a separate information collection request) will help FNS determine the success of and best practices for the use of mobile payment technologies to redeem SNAP benefits. This information will inform Program design, standards, rulemaking, and guidance for approval of SNAP mobile payment technologies as well as Departmental decisions and recommendations to Congress with respect to requiring all State EBT systems to accept mobile payment technologies in the future.

To achieve these objectives, FNS seeks OMB approval only for implementation of MPP by State agencies. Under the Paperwork Reduction Act, FNS will seek a separate OMB approval to evaluate the results of completed MPPs under a separate 60-day Federal Register Notice and information collection request.

1. Assumptions

In 2022, FNS issued a request for volunteers for participate in the MPP. FNS received 12 proposals and selected 5 States to participate. Because the request for volunteers (RFV) process has already occurred and its burden was covered in the initial 2022 information collection request, FNS is removing the hours associated with the RFV process from this renewal. Because pilot projects are still being designed, it is impossible for FNS to know in advance the design and structure of pilots that may be proposed or the specific activities each State and associated partners will undertake while conducting a MPP. Therefore, we have provided general estimates based on an assumed pilot model. Actual pilots may vary widely from this model and include a variety of potential stakeholders; this information collection does not intend to establish a standard model; this model will be used throughout this notice simply for ease of estimation.

If there are substantive changes to this data collection request, the agency will seek OMB approval to revise this information collection request following the Paperwork Reduction Act process. Because the pilots are still being designed by the 5 States, the estimates below are based on a model in which one State agency partners with an average of four (4) stakeholder businesses (2 retailers, 1 EBT processor, and 1 mobile payment vendor) and recruits 1,000 SNAP participants per pilot proposal. It is important to note for burden estimation purposes that, while there are numerous retailer and mobile payment vendors the States may choose to partner with, there are only 4 EBT processors nationally. Therefore, EBT processors may partner with multiple pilot proposals submitted by the various State agencies; this has been considered in our estimation.

2. Mobile Payment Pilot Implementation

The pilot period will last a total of eighteen (18) months, and Pilot Participants (State agencies and associated business partner organizations) will join on a rolling basis with the condition that they must each participate for a minimum of nine (9) months. Per the requirement in Section 4006(e) of the Agricultural Act of 2018 (Pub. L. 115-334) FNS has selected 5 MPPs. FNS estimates that, based on the assumed model in this notice, each State agency may require 80 hours to conduct the following activities during each month of implementation of an MPP (as applicable). These activities include:

1. Design of mobile payment integration and changes to EBT systems and functionality to accommodate mobile payments,

2. Testing of EBT systems to ensure compatibility,

3. Provision of technical assistance and support to SNAP households that participate in an MPP, and/or

4. Coordination with EBT processors, SNAP retailers, and mobile payment contractors.

FNS estimates that, based on the assumed model in this notice, each of the 5 State agencies may issue 1 recruitment notice for the MPP to 5,000 individuals who are members of SNAP households in each State for a total of 25,000 individuals. These notices may be issued to SNAP households electronically or via mail, depending on the State. Generation and issuance of each notice by the State agency is expected to take approximately 3 minutes (0.05 hours). FNS also estimates that each of the 25,000 individual household members will require up to 3 minutes (0.05 hours) to read the recruitment notice for participation in the pilot. FNS estimates that approximately 5,000 of the recruited participants will opt to participate in the pilot (1,000 per State) and that each of the 5,000 participants will require 15 minutes to enroll in an MPP. Potential enrollment activities for SNAP household respondents are based on the assumed model in this information collection may include calling or emailing the State agency to indicate interest, reviewing instructions, downloading an application (as known as app), technical assistance, and/or enrolling in the app.

Because the RFV process has already occurred and its burden was covered in the 2022 information collection request, FNS is removing the hours associated with the RFV process from this renewal. This results in a decrease of 23,510 burden hours.

Reporting Burden for State Agencies

Affected Public: State SNAP agencies.

Estimated Number of Respondents: 5 State agencies.

Estimated Number of Responses per Respondent: 5,048.

Estimated Total Annual Responses: 25,240.

Estimated Time per Response: .94.

Estimated Total Annual Burden on Respondents: 23,675.

Reporting Burden for Businesses

Affected Public: Business (Respondent Types: EBT Stakeholders (EBT Processors, SNAP Retailers, Mobile Payment Vendors or Contractors).

Estimated Number of Respondents: 20.

Estimated Number of Responses per Respondent: 12.

Estimated Total Annual Responses: 240.

Estimated Time per Response: 120 hours per response.

Estimated Total Annual Burden on Respondents: 28,800 hours.

Reporting Burden for Individual Households

Affected Public: SNAP Recipients.

Estimated Number of Respondents: 25,000 (15,000 respondents and 10,000 non-respondents).

Estimated Number of Responses per Respondent: .83 responses.

Estimated Total Annual Responses: 30,000 responses.

Estimated Time per Response: .07 hour.

Estimated Total Annual Burden on Respondents: 2,167 hours.

Recordkeeping Burden for State Agencies

There is no recordkeeping or third-party reporting burden associated with this information collection.

BILLING CODE 3410-30-P

Tameka Owens,
Acting Administrator and Assistant Administrator, Food and Nutrition Service.

[FR Doc. 2024-18947 Filed 8-22-24; 8:45 am]

BILLING CODE 3410-30-C